DEPARTMENT OF LABOR

Employment and Training Administration

[TA-W-64,782]

Lund Boat Company, a Division of Brunswick Corporation; New York Mills, MN; Notice of Termination of Investigation

Pursuant to Section 221 of the Trade Act of 1974, as amended, an investigation was initiated on December 29, 2008 in response to a petition filed on behalf of the workers at Lund Boat Company, a Division of Brunswick Corporation, New York Mills, Minnesota.

The petitioner has requested that the petition be withdrawn. Consequently, the investigation has been terminated.

Signed at Washington, DC, this 2nd day of April 2009.
Richard Church,
Certifying Officer, Division of Trade Adjustment Assistance.

[FR Doc. E9-10366 Filed 5-5-09; 8:45 am]

BILLING CODE 4510-FN-P